DEPARTMENT OF HOUSING AND URBAN DEVELOPMENT

[Docket No. FR-7071-N-05; OMB Control No. 2502-0306]

60-Day Notice of Proposed Information Collection: HUD-Owned Real Estate Sales Contract and Addendums

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 5, 2023.

ADDRESSES: Interested persons are invited to submit comments regarding this proposal. Comments should refer to the proposal by name and/or OMB Control Number and should be sent to: Colette Pollard, Reports Management Officer, REE, Department of Housing and Urban Development, 451 7th Street SW, Room 4176, Washington, DC 20410-5000; telephone 202-402-3400 (this is not a toll-free number) or email at Colette.Pollard@hud.gov for a copy of the proposed forms or other available information.

FOR FURTHER INFORMATION CONTACT: Colette Pollard, Reports Management Officer, REE Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit: https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: HUD-Owned Real Estate Sales Contract and Addendums.

OMB Approval Number: 2502-0306.

OMB Expiration Date: June 30, 2023.

Type of Request: Revision of currently approved collection.

Form Numbers: HUD-9544, HUD-9548, HUD-9548-B, HUD-9548-C, HUD-9548-G, HUD-9548-H, HUD-9545-Y, HUD-9545-Z, SAMS-1101, SAMS-1103, SAMS-1108, SAMS-1110, SAMS-1111, SAMS-1111-A, SAMS-1117, SAMS-1120, SAMS-1204.

Description of the need for the information and proposed use:

This collection of information consists of the primary sales contract and addenda that support the HUD Real Estate Owned (REO) program. The Asset Disposition and Management System is the case management system and repository for most of the documents included in this collection and tracks the activity of an REO property from HUD's acquisition through its final sale. The forms in this collection are used as part of the collection effort.

The collection also supports the requirements of the Lead Disclosure Rule relative to the disclosure of known lead-based paint and lead-based paint hazards in the sale of properties built before 1978.

With each form, the Public Burden Statement is updated. A revision was made to Model Document, Exclusive Listing Period Purchase Addendum for Governmental Entities and HUD-Approved Nonprofits to form HUD-9548 Sales Contract, eliminating 12 months occupy requirement. And revisions were made to Form HUD-9548, Sales Contract Property Disposition Program, to clarify language and where the paper/manual information collection process is replaced with electronic and digital signature processes.

Respondents: Individuals or households, Business or other for profit, Not-for-profit institutions, state, local or tribal government.

Estimated Number of Respondents: 83,606.

Estimated Number of Responses: 83,606.

Frequency of Response: 1.

Average Hours per Response: 0.179.

Total Estimated Burden: 18,894.78.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Jeffrey D. Little,
General Deputy Assistant Secretary for Housing.

[FR Doc. 2023-06943 Filed 4-3-23; 8:45 am]

BILLING CODE 4210-67-P